DEPARTMENT OF THE TREASURY

Submission for OMB Review; Comment Request

June 2, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before July 9, 2009 to be assured of consideration.

Internal Revenue Service (IRS)

OMB Number: 1545-0805.

Type of Review: Revision.

Form: 5472.

Title: Information return on a 25% Foreign Owned U.S. Corporation or a Foreign Corporation Engaged in a U.S. Trade or Business.

Description: Form 5472 is used to report information about transactions between a U.S. corporation that is 25% foreign owned or a foreign corporation that is engaged in a U.S. trade or business and related foreign parties. The IRS uses Form 5472 to determine if inventory or other costs deducted by the U.S. or foreign corporation are correct.

Respondents: Businesses or other for-profits.

Estimated Total Burden Hours: 2,544,784 hours.

OMB Number: 1545-1086.

Type of Review: Extension.

Form: 8725.

Title: Excise Tax on Greenmail.

Description: Form 8725 is used by persons who receive “greenmail” to compute and pay the excise tax on greenmail imposed under section 5881. IRS uses the information to verify that the correct amount of tax has been reported.

Respondents: Businesses or other for-profits.

Estimated Total Burden Hours: 92 hours.

OMB Number: 1545-0820.

Type of Review: Extension.

Title: REG-122917-02 (Final) Statutory Options (Previously EE-86-88 (LR-279-81)).

Description: The affected public includes corporations that transfer stock to employees after 1979 pursuant to the exercise of a statutory stock option. The corporation must furnish the employee receiving the stock with a written statement describing the transfer. The statement will assist the employee in filing their tax return.

Respondents: Businesses or other for-profits.

Estimated Total Burden Hours: 16,650 hours.

OMB Number: 1545-1227.

Type of Review: Extension.

Title: FI-104-90 Final Tax Treatment of Salvage and Reinsurance.

Description: The regulation provides a disclosure requirement for an insurance company that increases losses shown on its annual statement by the amount of estimated salvage recoverable taken into account.

Respondents: Businesses or other for-profits.

Estimated Total Burden Hours: 5,000 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-13491 Filed 6-8-09; 8:45 am]

BILLING CODE 4830-01-P